DEPARTMENT OF TRANSPORTATION

Federal Aviation Administration

14 CFR Parts 61 and 121

[Docket No.: FAA-2015-2129; Amdt. Nos. 61-134 and 121-372]

RIN 2120-AK68

Removal of Pilot Pairing Requirement

AGENCY: Federal Aviation Administration (FAA), DOT.

ACTION: Final rule.

SUMMARY: This final rule conforms Federal Aviation Administration regulations to International Civil Aviation Organization standards and the Fair Treatment for Experienced Pilots Act, both of which no longer contain a pilot pairing requirement. Accordingly, this final rule removes the requirement for a pilot in command who has reached age 60 to be paired with a pilot under age 60 in international commercial air transport operations by air carriers conducting flag and supplemental operations, as well as for other pilots serving in certain international operations using civil airplanes on the U.S. registry. The removal of this restriction will allow all pilots serving on airplanes in international commercial air transport with more than one pilot to serve until age 65 without a requirement to be paired with a pilot under age 60.

DATES: This action becomes effective June 12, 2015.

FOR FURTHER INFORMATION CONTACT: For technical questions concerning this document, contact Nancy Lauck Claussen, Air Transportation Division (AFS-200), Flight Standards Service, Federal Aviation Administration, 800 Independence Avenue SW., Washington, DC 20591; telephone (202) 267-8166; email Nancy.L.Claussen@faa.gov.

For legal questions concerning this document, contact Sara Mikolop, Office of the Chief Counsel (AGC-200), Federal Aviation Administration, 800 Independence Avenue SW., Washington, DC 20591; telephone (202) 267-3073; email Sara.Mikolop@faa.gov.

SUPPLEMENTARY INFORMATION:

Good Cause for Immediate Adoption

The FAA is adopting this final rule without prior notice and public comment effective June 12, 2015. Section 553(b)(B) of the Administrative Procedure Act (APA) (5 U.S.C.) authorizes agencies to dispense with notice and comment procedures for rules when the agency for “good cause” finds that those procedures are “impracticable, unnecessary, or contrary to the public interest.” Under this section, an agency, upon finding good cause, may issue a final rule without seeking comment prior to the rulemaking. Additionally, section 553(d) of the APA provides a “good cause” exception from the requirement to publish a substantive rule at least 30 days before its effective date.

Recent action by the International Civil Aviation Organization (ICAO) to remove the requirement in ICAO Annex 1 (Personnel Licensing), Chapter 2 (Licenses and Ratings for Pilots), Standard 2.1.10.1 to pair a pilot in command (PIC) who has reached age 60 with a pilot under age 60, triggered the sunset of the pilot pairing limitation in 49 U.S.C. 44729(c)(1). Based on this action, as of November 13, 2014, the statutory basis for the pilot pairing requirements in §§ 61.3(j)(2), 61.77(g), and 121.383(d)(2) and (e)(2) of Title 14 of the Code of Federal Regulations (14 CFR) no longer exists and these regulations are contrary to 49 U.S.C. 44729.

The FAA finds that notice and public comment to this immediately adopted final rule are unnecessary and contrary to the public interest because this final rule is limited to conforming 14 CFR parts 61 and 121 with recent changes to statutory requirements pertaining to pilot age limitations. On November 13, 2014, the statutory requirement in 49 U.S.C. 44729(c)(1) for a pilot in command who had reached age 60 to be paired with a pilot under age 60 ceased to be effective, although the regulatory requirements in 14 CFR pertaining to pilot pairing remained in place.

It is contrary to the public interest to allow regulatory requirements pertaining to pilot age limitations to remain in the Code of Federal Regulations when those requirements present a direct conflict with the statutory requirements in the United States Code pertaining to pilot age limitations. Further, under section 553(d)(3) of the APA, the FAA finds that good cause exists for making this rule effective upon publication to minimize any possible confusion between the statutory requirements pertaining to pilot age limitations in 49 U.S.C. 44729 and the regulatory requirements pertaining to pilot age limitations in §§ 61.3(j)(2), 61.77(g), and 121.383(d)(2) and (e)(2) of 14 CFR.

Authority for This Rulemaking

The FAA's authority to issue rules on aviation safety is found in Title 49 of the United States Code. Subtitle I, Section 106 describes the authority of the FAA Administrator. Subtitle VII, Aviation Programs, describes in more detail the scope of the Agency's authority. Additionally, the Fair Treatment for Experienced Pilots Act (Pub. L. 110-135), codified at 49 U.S.C. 44729, establishes requirements pertaining to pilot age limitations.

This rulemaking is promulgated under the authority described in 49 U.S.C. 106(f), which establishes the authority of the Administrator to promulgate regulations and rules and conform FAA requirements pertaining to pilot age limitations with the Fair Treatment for Experienced Pilots Act.

I. Overview of Immediately Adopted Final Rule

This final rule removes the requirements in §§ 61.3(j)(2), 61.77(g), and 121.383(d)(2) and (e)(2) for a PIC who has reached age 60 to be paired with a pilot under age 60 in international commercial air transport operations conducted under part 121, as well as for pilots relying on a certificate issued under part 61 and serving in certain international operations using civil airplanes on the U.S. registry. The removal of this restriction will allow all pilots serving on airplanes in international commercial air transport with more than one pilot, to serve beyond 60 years of age (until 65 years of age) without a requirement to be paired with a pilot under 60 years of age. This final rule conforms FAA regulations with ICAO standards and the Fair Treatment for Experienced Pilots Act, which no longer contain a pilot pairing requirement.

II. Background

A. Fair Treatment for Experienced Pilots Act

On December 13, 2007, the Fair Treatment for Experienced Pilots Act (Pub. L. 110-135) amended Title 49 of the United States Code by adding section 44729. Section 44729(a) raised the age limit for pilots serving in operations under part 121 ¹ from age 60 to age 65, subject to the limitations in section 44729(c) applicable to PICs on international flights.

¹ The statute uses the term “covered operations” to describe part 121 operations. See 49 U.S.C. 44729(b).

Section 44729(c) provided a pilot pairing limitation for PICs serving on international flights. Specifically, section 44729(c)(1) states, “A pilot who has attained 60 years of age may serve as pilot-in-command in covered operations between the United States and another country only if there is another pilot in the flight deck crew who has not yet attained 60 years of age.” The pilot pairing requirement in section 44729(c)(1) was consistent with the pilot pairing standard in ICAO Annex 1 (Personnel Licensing), Chapter 2 (Licenses and Ratings for Pilots), Standard 2.1.10.1, applicable to multi-pilot crews in effect at the time that section 44729 was added to the United States Code. Until November 13, 2014, Standard 2.1.10.1 stated:

A Contracting State, having issued pilot licences, shall not permit the holders thereof to act as pilot-in-command of an aircraft engaged in international commercial air transport operations if the licence holders have attained their 60th birthday or, in the case of operations with more than one pilot where the other pilot is younger than 60 years of age, their 65th birthday.

The Agency notes that for operations with a single pilot, Standard 2.1.10.1 requires the pilot to be under age 60.

The Fair Treatment for Experienced Pilots Act also provided for a self-executing sunset of the pilot pairing requirement. Specifically, section 44729(c)(2) provides that the pilot pairing requirement in section 44729(c)(1) would cease to be effective on the date that ICAO removed the pilot pairing limitation in Standard 2.1.10.1. Section 44729(c)(2) states that “[p]aragraph [c](1), shall cease to be effective on such date as the Convention on International Civil Aviation provides that a pilot who has attained 60 years of age may serve as pilot-in-command in international commercial operations without regard to whether there is another pilot in the flight deck crew who has not attained age 60.”

B. “Part 121 Pilot Age Limit” Final Rule

On July 15, 2009, the FAA published the “Part 121 Pilot Age Limit” final rule (74 FR 34229) to conform FAA regulations to the statutory requirements in the Fair Treatment for Experienced Pilots Act (codified at 49 U.S.C. 44729). Based on the statutory authority in 49 U.S.C. 44729, the 2009 final rule raised the pilot age limitation from 60 to 65 and added the pilot pairing requirement for pilots conducting part 121 operations and other multi-pilot operations, between or over the territory of more than one country using U.S.-registered airplanes.

In the 2009 final rule preamble, the Agency stated that it believed that the Fair Treatment for Experienced Pilots Act intended to harmonize FAA regulations with the ICAO standard pertaining to pilot age limitations and pilot pairing requirements, which would encompass international operations in addition to the part 121 operations identified by the Act. See 74 FR 34229, 34230 (July 15, 2009). The ICAO standard pertaining to pilot age limitations and pilot pairing applies to pilots serving in operations between his or her home state and another country, as well as between two territories outside of his or her home state.

Accordingly, to harmonize the Agency's regulations with the ICAO standard and further the intent of the Fair Treatment for Experienced Pilots Act, the 2009 final rule added the pilot age limitations and pilot pairing requirement for pilots conducting operations between two international territories using U.S.-registered airplanes and relying on certificates issued under part 61.² As a result, for multi-pilot operations, the 2009 final rule increased the maximum age for a pilot to serve and added the pilot pairing requirement for part 121 operations and certain other international air service and air transportation operations using airplanes on the U.S. registry (See §§ 61.3(j), 61.77(e) and (g), and 121.383(d) and (e)).

² The Agency notes that in accordance with 14 CFR 129.5(b), each foreign air carrier conducting operations within the United States must conduct its operations in accordance with the Standards contained in Annex 1 (Personnel Licensing), Annex 6 (Operation of Aircraft), Part I (International Commercial Air Transport-Aeroplanes) or Part III (International Operations-Helicopters), as appropriate, and in Annex 8 (Airworthiness of Aircraft) to the Convention on International Civil Aviation. Additionally, in accordance with § 129.1(b), operations of U.S.-registered aircraft solely outside of the United States in common carriage by a foreign person or a foreign air carrier must also be in compliance with the ICAO Standards identified in § 129.5(b). Therefore, for these operations, the ICAO amendment to the pilot pairing limitation applies without further change to 14 CFR. The FAA further notes that beginning on the date the ICAO amendment became applicable (November 13, 2014), as an ICAO member state, no foreign air carrier conducting operations under part 129 may conduct operations to or from the United States with any pilot who has reached age 65. This same limitation applies to operations covered by § 129.1(b).

The 2009 final rule did not change the maximum age for pilots serving in international operations covered by § 61.3(j)(1) using a single pilot (i.e., the pilot must be under age 60). See § 61.3(j)(2) and 61.77(g). A pilot is only permitted to continue to serve upon reaching age 60 if that pilot serves as a member of a multi-pilot crew that includes a pilot under age 60. Thus, as was the case prior to the 2009 final rule, operations covered by § 61.3(j)(1) that use a single pilot can only be operated by a pilot who has not yet reached 60 years of age.

C. ICAO Amendment 172 to Annex 1, Personnel Licensing, Standard 2.1.10.1

During a meeting of the ICAO Council on March 3, 2014, Council members adopted Amendment 172 to Annex 1, Personnel Licensing. The amendment removed the requirement in Standard 2.1.10.1 to pair a PIC who has reached age 60 with a pilot under age 60, and renumbered the standard as 2.1.10. Without the pairing requirement, all pilots on multi-pilot crews serving in international air transport commercial operations may continue to serve as long as they have not reached 65 years of age.³ Amendment 172 to Annex 1, Personnel Licensing, became applicable on November 13, 2014.

³ Amendment 172 to Annex 1, Personnel Licensing, does not change the existing maximum age permitted for pilots engaged in single-pilot operations. Pilots serving in single-pilot operations must be under age 60.

D. Effect of ICAO Amendment and Sunset of 49 U.S.C. 44729(c)(1) on FAA Regulations

As previously discussed, 49 U.S.C. 44729(c)(2) states that the pilot pairing requirement in 49 U.S.C. 44729(c)(1) ceases to be effective when ICAO removes the pilot pairing requirement from Annex 1 (Personnel Licensing), Chapter 2 (Licenses and Ratings for Pilots), Standard 2.1.10.1. On November 13, 2014, the revised Standard 2.1.10, that no longer contains the pilot pairing requirement, became applicable. Accordingly, on November 13, 2014, the pilot pairing limitation of 49 U.S.C. 44729(c)(1) ceased to be effective.

The FAA subsequently published a Notice of Policy (79 FR 67346, November 13, 2014) explaining that once the pilot pairing limitation of 49 U.S.C. 44729(c)(1) ceased to be effective, the statutory basis for the pilot pairing requirements in 14 CFR 61.3(j)(2), 61.77(g) and 121.383(d)(2) and (e)(2) would no longer exist, and those regulations would be contrary to 49 U.S.C. 44729. Based on the foregoing, in the Notice of Policy, the FAA further stated that it would no longer enforce the pilot pairing requirements contained in 14 CFR 61.3(j)(2), 61.77(g), and 121.383(d)(2) and (e)(2) as of the date the ICAO amendment became applicable and corresponding sunset of 49 U.S.C. 44729(c)(1). The ICAO amendment became applicable and the sunset of 49 U.S.C. 44729(c)(1) took place on November 13, 2014.

III. Discussion of Immediately Adopted Final Rule

This final rule conforms FAA regulations in Title 14 of the Code of Federal Regulations (14 CFR) with the Fair Treatment for Experienced Pilots Act by removing the current pilot pairing requirements from parts 121 and 61. Specifically, the Agency has amended § 121.383(d) and (e) to allow all pilots serving in part 121 operations of any kind (i.e., domestic, flag, or supplemental) to serve as long as that pilot has not reached his or her 65th birthday. Additionally, the Agency has amended §§ 61.3 and 61.77 to allow all pilots relying on a certificate issued under part 61 and serving in certain international operations using civil airplanes on the U.S. registry to continue to serve in multi-pilot crews as long as they have not reached their 65th birthday. The maximum age for pilots serving in single pilot crews in operations covered by § 61.3(j)(1) has not changed.

This rulemaking provides relieving changes that create the opportunity for scheduling efficiencies because only the maximum pilot age of 65 needs to be considered in bidding for, or flying international flights. All pilots serving in any kind of part 121 operation (i.e., domestic, flag, or supplemental) may continue to serve until they reach their 65th birthday, regardless of the age of the other pilot(s) on their flightcrew. This rulemaking also provides relieving changes for certain other pilots with certificates issued in accordance with part 61, who serve with multi-pilot crews in international operations using civil airplanes on the U.S. registry.

IV. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this final rule. The reasoning for this determination follows:

This final rule is relieving in that it removes the requirement to pair a pilot who has reached age 60 with a pilot who is under age 60 in international operations covered by part 121 and certain other international operations identified in §§ 61.3 and 61.77. The removal of this pilot pairing requirement eases flight scheduling and crew rest requirement costs because, for multi-pilot operations, only the maximum pilot age of 65 needs to be considered in bidding for, or flying international flights covered by part 121 and certain other international operations. The expected outcome will be lower costs. Therefore, a regulatory evaluation was not prepared.

FAA has therefore determined that this final rule is not a “significant regulatory action” as defined in section 3(f) of Executive Order 12866, and it is not “significant” as defined in DOT's regulatory policies and procedures provided in DOT 2100.5.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes that this final rule does not have a significant economic impact on a substantial number of small entities for the following reasons. This final rule removes the age-based pilot pairing requirements from parts 121 and 61. The expected result will be reduced costs or minimal cost for any small entity affected by this rulemaking action. Therefore, as provided in section 605(b), the head of the FAA certifies that this rulemaking will not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it conforms to international standards regarding pilot age limits and, therefore, does not create unnecessary obstacles to the foreign commerce of the United States.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151 million in lieu of $100 million. This final rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this immediately adopted final rule.

F. International Compatibility and Executive Order 13609, Promoting International Regulatory Cooperation

In keeping with U.S. obligations under the Convention on International Civil Aviation, it is FAA policy to conform to ICAO Standards and Recommended Practices to the maximum extent practicable. The FAA has reviewed the corresponding ICAO Standards and Recommended Practices and has identified no differences with these proposed regulations.

Executive Order 13609, Promoting International Regulatory Cooperation, (77 FR 26413, May 4, 2012) promotes international regulatory cooperation to meet shared challenges involving health, safety, labor, security, environmental, and other issues and reduce, eliminate, or prevent unnecessary differences in regulatory requirements. The FAA has analyzed this action under the policy and agency responsibilities of Executive Order 13609, Promoting International Regulatory Cooperation. The FAA has determined that this action would eliminate differences between U.S. aviation standards and those of other civil aviation authorities by conforming FAA regulations to the corresponding ICAO Standards and Recommended Practices.

G. Environmental Analysis

FAA Order 1050.1E identifies FAA actions that are categorically excluded from preparation of an environmental assessment or environmental impact statement under the National Environmental Policy Act in the absence of extraordinary circumstances. The FAA has determined this rulemaking action qualifies for the categorical exclusion identified in paragraph 312f and involves no extraordinary circumstances.

V. Executive Order Determinations

A. Executive Order 13132, Federalism

The FAA has analyzed this final rule under the principles and criteria of Executive Order 13132, Federalism. The Agency determined that this action will not have a substantial direct effect on the States, or the relationship between the Federal Government and the States, or on the distribution of power and responsibilities among the various levels of government; therefore, this final rule does not have Federalism implications.

B. Executive Order 13211, Regulations that Significantly Affect Energy Supply, Distribution, or Use

The FAA analyzed this final rule under Executive Order 13211, Actions Concerning Regulations that Significantly Affect Energy Supply, Distribution, or Use (May 18, 2001). The Agency has determined that it is not a “significant energy action” under the Executive Order, and it is not likely to have a significant adverse effect on the supply, distribution, or use of energy.

VI. How To Obtain Additional Information

A. Rulemaking Documents

An electronic copy of a rulemaking document may be obtained by using the Internet—

1. Search the Federal eRulemaking Portal (http://www.regulations.gov);

2. Visit the FAA's Regulations and Policies Web page at http://www.faa.gov/regulations_policies/ or

3. Access the Government Publishing Office's Web page at: http://www.gpo.gov/fdsys/.

Copies may also be obtained by sending a request (identified by amendment or docket number of this rulemaking) to the Federal Aviation Administration, Office of Rulemaking, ARM-1, 800 Independence Avenue SW., Washington, DC 20591, or by calling (202) 267-9677.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

List of Subjects

14 CFR Part 61

Airmen, Aviation safety.

14 CFR Part 121

Air carriers, Aircraft, Airmen, Aviation safety.

The Amendment

In consideration of the foregoing, the Federal Aviation Administration amends chapter I of Title 14, Code of Federal Regulations as follows:

PART 61—CERTIFICATION: PILOTS, FLIGHT INSTRUCTORS, AND GROUND INSTRUCTORS

1. The authority citation for part 61 is revised to read as follows:

Authority: 49 U.S.C. 106(f), 106(g), 40113, 44701-44703, 44707, 44709-44711, 44729, 45102-45103, 45301-45302.

2. Amend § 61.3 as follows:

a. Revise paragraph (j)(1) introductory text;

b. Remove paragraph (j)(2); and

c. Redesignate paragraph (j)(3) as paragraph (j)(2).

The revision reads as follows:

§ 61.3 Requirement for certificates, ratings and authorizations.

* * * * *

(j) * * *

(1) Age limitation. No person who holds a pilot certificate issued under this part may serve as a pilot on a civil airplane of U.S. registry in the following operations if the person has reached his or her 60th birthday or, in the case of operations with more than one pilot, his or her 65th birthday:

* * * * *

3. Amend § 61.77 as follows:

A. Revise paragraph (e) introductory text;

B. Remove paragraph (g); and

C. Redesignate paragraphs (h) through (j) as paragraphs (g) through (i), respectively.

The revision reads as follows:

§ 61.77 Special purpose pilot authorization: Operation of a civil aircraft of the United States and leased by a non-U.S. citizen.

* * * * *

(e) Age limitation. No person who holds a special purpose pilot authorization issued under this part may serve as a pilot on a civil airplane of U.S. registry in the following operations if the person has reached his or her 60th birthday or, in the case of operations with more than one pilot, his or her 65th birthday:

* * * * *

PART 121—OPERATING REQUIREMENTS: DOMESTIC, FLAG, AND SUPPLEMENTAL OPERATIONS

4. The authority citation for part 121 is revised to read as follows:

Authority: 49 U.S.C. 106(f), 106(g), 40113, 40119, 41706, 44101, 44701-44702, 44705, 44709-44711, 44713, 44716-44717, 44722, 44729, 44732, 46105; Pub. L. 111-216, 124 Stat. 2348 (49 U.S.C. 44701 note); Pub. L. 112-95, 126 Stat. 62 (49 U.S.C. 44732 note).

5. Amend § 121.383 by revising paragraphs (d) and (e) to read as follows:

§ 121.383 Airman: Limitations on use of services.

* * * * *

(d) No certificate holder may use the services of any person as a pilot on an airplane engaged in operations under this part if that person has reached his or her 65th birthday.

(e) No pilot may serve as a pilot in operations under this part if that person has reached his or her 65th birthday.

Issued under authority provided by 49 U.S.C. 106(f), 44701(a), and 44703 in Washington, DC, on June 3, 2015.
Michael P. Huerta,
Administrator.

[FR Doc. 2015-14248 Filed 6-11-15; 8:45 am]

BILLING CODE 4910-13-P